DEPARTMENT OF THE INTERIOR

Geological Survey

Public Workshop on Future Land Imaging for the United States

AGENCY: U.S. Geological Survey, Interior.

ACTION: Notice of public workshop.

SUMMARY: The first public workshop on future land Imaging for the United States will be held in the main auditorium in the Main Interior Building, 1849 C Street, NW., Washington, DC. The workshop, directed by the Office of Science and Technology Polict of the Executive Branch, is designed to inform the satellite user community of plans for moderate resolution, Landsat-type multispectral imaging. The workshop will include presentations by the Future of Land Imaging Interagency Working Group, industry, the user community and government representatives. Attendees will be given an opportunity to express views and perspectives on future land imaging needs and capabilities.

DATES: July 26, 2006, 1 p.m.-5 p.m.

FOR FURTHER INFORMATION CONTACT: Barron Bradford, U.S. Geological Survey, 517 National Center, Reston, Virginia 20192 (703) 648-5774 or brbradford@usgs.gov.

Dated: July 7, 2006.
Barbara J. Ryan,
Associate Director for Geography.

[FR Doc. 06-6167 Filed 7-11-06; 8:45am]

BILLING CODE 4311-AM-M